DEPARTMENT OF STATE

[Public Notice:7308]

Bureau of Educational and Cultural Affairs (ECA) Request for Grant Proposals: National Security Language Initiative for Youth (NSLI-Y)

Announcement Type: New Cooperative Agreement.

Funding Opportunity Number: ECA/PE/C/PY-11-03.

Catalog of Federal Domestic Assistance Number: 19.415.

Key Dates

Application Deadline: March 24, 2011.

Executive Summary: The Office of Citizen Exchanges of the Bureau of Educational and Cultural Affairs (ECA) announces an open competition for one cooperative agreement for the National Security Language Initiative for Youth (NSLI-Y), which provides overseas foreign language instruction for American high school students and those recently graduated. Public and private non-profit organizations, meeting the provisions described in Internal Revenue Code section 26 U.S.C. 501(c)(3), may submit proposals to cooperate with ECA in the overall administration of NSLI-Y organizational responsibilities and the implementation of overseas language programs of two different durations for approximately 610 total individual participant scholarships according to the duration and language distribution detailed in the Project Objectives, Goals and Implementation (POGI). NSLI-Y programs funded by this award will take place between June 2012 and June 2013. NSLI-Y is an important component of a multi-agency USG initiative to increase American citizens' ability to engage with people throughout the world who speak Arabic, Chinese (Mandarin), Indic (Hindi), Korean, Persian (Tajiki or Farsi), Russian and Turkish. Please note: ECA reserves the right to add or subtract languages and countries based on the needs of the Department, security considerations at the time of implementation and the overall objectives of the program. The Bureau anticipates that the single award recipient will manage the comprehensive organizational and administrative responsibilities of this program as well as the identification of qualified sub-award recipients known as “implementing organizations” to implement the overseas language programs. Under this award, the award recipient may also serve as an implementing organization.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations * * * and thus to assist in the development of friendly, sympathetic and peaceful relations between the United States and the other countries of the world.” The funding authority for the program above is provided through legislation.

Purpose: ECA is supporting the participation of American high school students and those who have recently graduated (who are U.S. citizens and between the ages of 15 and 18 at the start of the program), in intensive, substantive overseas foreign language study to dramatically increase the number of Americans learning, speaking and using critical need foreign languages throughout their academic and professional lives. For additional information about NSLI-Y, please visit http://exchanges.state.gov/youth/programs/nsli.html.

It is anticipated that the total amount of funding available to support the overall administration and overseas language program implementation in the seven current NSLI-Y languages is $9,000,000, pending the availability of funds. This amount is intended to support approximately 610 scholarships, including comprehensive administrative and program costs.

Overseas language programs, in countries where the seven NSLI-Y languages are widely spoken, will provide a minimum of two articulated and integrated language learning environments: (1) Structured classroom target language instruction and (2) less formal, interactive and/or applied learning opportunities. These opportunities are offered through a comprehensive exchange experience that primarily emphasizes language acquisition.

Applicants may submit only one proposal under this competition. If multiple proposals are received from the same applicant, all submissions will be declared ineligible and receive no further consideration in the review process.

ECA is seeking one organization that will (1) administer and organize the diverse and comprehensive NSLI-Y overseas intensive language programs and (2) engage additional sub-award implementing organizations with relevant expertise in one or more of the target languages to implement the overseas language programs for high school students across the current seven NSLI-Y languages. Organizations applying for this award must demonstrate their capacity for conducting projects of this nature, focusing on four areas of competency:

(1) Administrative and Organizational Experience: Administrative and organizational experience and expertise that includes applicant recruitment and selection, planning and execution, management, monitoring of participants' safety and welfare, evaluation of language acquisition and program effectiveness, and follow-on/alumni activities;

(2) Language Instruction and Related Activities: Provision of foreign language instruction programs and related language-focused educational/cultural activities as outlined in this document;

(3) Assessment: Language level and age appropriate programming for the target audience; and

(4) Overseas Program Experience: Experience in conducting programs in the proposed partner country/countries or locations.

The goals of the NSLI-Y program are:

(1) Language Learning: Improve the ability of Americans to engage with the people of Arabic, Chinese (Mandarin), Indic (Hindi), Korean, Persian (Tajiki or Farsi), Russian and Turkish-speaking countries in the language of the country by promoting language learning to advanced levels;

(2) Cultural Understanding: Assist in developing a cadre of Americans whose foreign language skills enhance related cultural understanding and who use these language and cultural skills to advance international dialogue and compete effectively in the global economy;

(3) Scholarship: Provide a tangible incentive for the learning and use of foreign languages by creating and optimizing overseas language study opportunities for American high school students; and

(4) Commitment: Spark a lifetime interest in foreign languages and cultures among American youth.

NSLI-Y project learning objectives include:

(1) Acquisition: Participants will demonstrate a substantive, measurable increase in language proficiency (oral comprehension, speaking, reading and writing), as verified through pre- and post-program assessment with a standardized language assessment tool;

(2) Cultural Understanding: Participants will demonstrate a deeper understanding of the host country's society, institutions and culture; and

(3) Multiplier Effect: Participants will share experiences as young Americans with their overseas peers through the use of common language.

While the NSLI-Y overseas language programs are active in multiple countries/locations, it is important that a single worldwide program identity be established and maintained. Accordingly, ECA anticipates making one single award to an organization/institution with the capacity and experience to manage the administrative and organizational responsibilities, and which would be responsible for engaging additional sub-award implementing organizations, where necessary, to meet the goals and objectives of the NSLI-Y program. Language study must be the primary focus of the program.

Overseas language programs may be implemented by the award recipient, where the experience and overseas institutional capacity exists or can be satisfactorily developed, and by sub-award implementing organizations identified and proposed by the award recipient. Through sub-award agreements with the award recipient and under the administration of, and in coordination with, the award recipient, ECA anticipates that overseas language programs will be implemented and administered for participants in countries/locations where Arabic, Chinese (Mandarin), Indic (Hindi), Korean, Persian (Tajiki or Farsi), Russian and Turkish are widely spoken. Like the award recipient, should it choose to implement overseas programs, sub-award implementing organizations must have the necessary capacity in the partner country/countries or location to implement the program through either their own offices or partner institutions. In their capacity as an implementing organization, the award recipient and the sub-award implementing organizations may demonstrate their direct expertise or they may partner with other organizations/institutions to best respond to the requirements outlined in this RFGP. In the proposal, the applicant must clearly demonstrate how it will accomplish overseas language program implementation. ECA reserves the right of final approval for all proposed sub-award implementing organizations.

Overseas language programs will be of two durations: six- to eight-week “short” duration, and eight- to nine-month “long” duration. The applicant is advised to consider both the traditional U.S. academic schedule and that of the proposed overseas language institution when envisioning and detailing NSLI-Y overseas programs. “Short” duration programs must provide a minimum of 120 contact/classroom hours. “Long” duration programs must be structured in a way that meets a minimum standard of ten classroom contact hours established by the award recipient in consultation with ECA and includes daily language instruction (with the exception of weekends), unless an alternative language delivery model receives prior concurrence from ECA. NSLI-Y participants must be in language institutions/academic environments where the target language is the language of instruction, unless an alternative language environment receives prior concurrence from ECA. The award recipient and its sub-award implementing organizations may propose either short or long duration programs or both, according to the guidelines provided in the POGI, and may propose overseas programs in one or as many languages as they have the capacity and institutional relationships to support. The applicant must ensure that plans are submitted to implement programs in all seven languages across all program durations, as outlined in the POGI. The Bureau anticipates that there will be no more than one long duration implementing organization per language per country/location and that the minimum number of participants is five; there may be multiple short duration implementing organizations per language per country/location. The period of time within which short and long duration programs must be implemented and concluded is June 2012 through June 2013.

Role of ECA

In a cooperative agreement, ECA is substantially involved in program activities above and beyond routine monitoring. ECA activities and responsibilities for this program include but are not limited to:

(1) Program Components: Guidance in the execution of all program components, providing concurrence as necessary.

(2) Program Documents: Materials review of all print and online documents prior to publication and dissemination, including application forms, the Web site and brochure. This includes individual implementing organizations' instructional materials for the classroom portion of the language learning and the ideas/plans for the out-of-classroom, applied language-learning opportunities, including volunteer projects, guided internships, excursions, etc. These materials must be provided to ECA at least two months in advance of the start of the overseas program. The award recipient must seek and obtain written ECA concurrence on substantive and logistical changes in the program, if changes occur after this material has been provided.

(3) Promotion: Collaboration to publicize the program.

(4) Recruitment: Review and approval of the participant recruitment strategy.

(5) Selection: Concurrence on participant finalists and alternates.

(6) Notification: Review and approval of participant award documentation, including the NSLI-Y Terms and Conditions.

(7) Assessment: Support of the award recipient's standardized pre- and post-program testing of participants' language proficiency and progress.

(8) Program Coordination: Assist in liaison with appropriate Department of State offices, including the regional bureaus and overseas posts. Implementing organizations are required to directly liaise early and often with overseas posts (the relevant embassy and/or consulate Public Affairs Section or PAS) in order to obtain concurrence on general program location, concurrence on host family or accommodation location, participation in a post-arrival briefing for the NSLI-Y participants and assistance in the event of a grave emergency. The award recipient is responsible for ensuring that these contacts are established in a timely fashion and maintained throughout the implementation of the program.

(9) Host Government Liaison: Cooperation with the award recipient and post, as necessary, in the event that coordination with host government officials is needed.

(10) Security Considerations: Modifications to program locations and/or logistics based on security considerations and overall objectives of the program.

(11) Inter-Agency NSLI Programs: Assistance with promoting continuity among inter-agency NSLI programs, i.e., Startalk, The Language Flagship, the Critical Language Scholarships (CLS), Teachers of Critical Languages Program (TCLP) and Intensive Summer Language Institutes for Teachers (ISLI).

(12) Pre-Departure Orientations: Collaboration on participant pre-departure orientations (PDOs) and participating in them, when possible.

(13) Changes to Implementing Organizations: Concurrence on any possible additional implementing organizations that the award recipient might suggest to more effectively meet scholarship demand in a particular language or languages for a particular duration or durations.

(14) Planning Meetings: Collaboration on and participation in organizational/planning meeting(s).

(15) Bureau Evaluation Surveys: Access to Bureau-approved evaluation surveys (E-Goals) links for participant completion and results for program management.

(16) Alumni Activities: Input on alumni activities and follow-up events.

(17) Travel Registration and Health Benefits: Facilitation of the award recipients' access to the Department of State's international travel registration system (Smart Travel Enrollment Program or STEP), ASPE health benefits program and to relevant consular forms.

Role of Public Affairs Section/Embassy/Consulate

ECA seeks to minimize the burden on posts (embassies and consulates) in whose consular districts the NSLI-Y programs are implemented. Therefore, the proposal must demonstrate the applicant's ability to perform the requirements independent of post but also its commitment to working with posts as described in the RFGP and POGI. Applicants are advised to provide examples of past successful programs and the ways in which collaboration with posts strengthened the management and monitoring of the program and its participants. In order to promote this important overseas relationship, ECA anticipates that the award recipient and its implementing organizations have the experience, knowledge and staffing to carry out the daily operations, including on-program support, in the host locations. ECA expects that the overseas implementing organizations and relevant Public Affairs Sections (PAS) will establish the level of cooperation about the program that suits both parties. Implementing organizations are required to request and obtain post's concurrence on general program location, host family or other accommodation location and involvement in a post-arrival orientation in order to apprise NSLI-Y participants of security and other relevant issues. ECA expects that implementing organizations, under the guidance of the award recipient, will handle urgent medical crises, natural disasters or other unforeseen problems, but that they will communicate with and turn to post, as necessary and appropriate, given that NSLI-Y participants are American high school students whose welfare and safety are paramount. Post must always be informed in the event that a NSLI-Y participant is involved in civil or criminal police matters.

II. Award Information

Type of Award: Cooperative Agreement. ECA's level of involvement in this program is listed under number I above.

Fiscal Year Funds: 2011 (pending availability of funds).

Approximate Total Funding: $9,000,000.

Approximate Number of Awards: 1.

Approximate Average Award: $9,000,000.

Anticipated Award Date: Pending availability of funds, July 2011.

Anticipated Project Completion Date: December 31, 2013.

Additional Information

Pending successful implementation of this program and the availability of funds in subsequent fiscal years, it is ECA's intent to renew this cooperative agreement for two additional fiscal years, before openly competing it again.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

III.3a. Guidelines: Bureau cooperative agreement/grant guidelines require that organizations with less than four years experience in conducting international exchanges be limited to $60,000 in Bureau funding. ECA anticipates making one award, in an amount up to $9,000,000, to support administrative and program costs required to implement this exchange program. Therefore, organizations with less than four years experience in conducting international exchanges are ineligible to apply to ECA under this competition. Applicants should demonstrate extensive experience in administering exchange programs for secondary school students in compliance with Federal regulations. The Bureau encourages applicants to provide maximum levels of cost sharing and funding in support of its programs.

III.3a.1. Sub-Awards: In proposing sub-award implementing organizations, the applicant must demonstrate the capacity, experience and expertise of the proposed sub-award implementing organizations in the particular language and country/location where the language program is proposed. ECA anticipates that applicants will propose multiple organizations as sub-award implementing organizations to implement overseas language programs because of the scope, language acquisition focus and geographic breadth of the programs to be implemented under this cooperative agreement. This is encouraged to strengthen the award recipient's capacity for each of the seven languages across the various countries/locations in which NSLI-Y programs are to be implemented. Each U.S.-based implementing organization must exhibit an established effective relationship with the overseas implementing organization to guide, direct, influence, manage and monitor each overseas language program (and the overseas institutional partner implementing it, where relevant) so that it meets the NSLI-Y goals. It is the award recipient, however, that must be fully responsible for the oversight, monitoring and management of sub-award implementing organizations. Further information on sub-agreements is provided in the OMB Circulars referenced in Section VI.2.

III.3b. Technical Eligibility: All proposals must comply with the following or they will result in the proposal being declared technically ineligible and given no further consideration in the review process:

III.3b.1. Commitment: Proposal narratives must demonstrate a commitment to short and long duration overseas language programs which must begin no earlier than June 2012 and end no later than June 2013.

III.3b.2. Monitoring Plan: Proposals must detail methods for monitoring NSLI-Y participant safety and welfare while on program, as well as plans to provide on-program support to NSLI-Y participants.

III.3b.3. Per Capita Costs: Proposals must cap per participant costs for short duration programs at $11,000 and for long duration programs at $21,500. This approximate cap may change over the life of the cooperative agreement, contingent upon ECA concurrence.

III.3b.4. Assessment: Proposals must identify the use of a standardized and recognized language assessment tool, subject to ECA approval, to assist with participant placement into the appropriate level of language classes in overseas programs and to evaluate the language gain by individual scholarship recipients.

III.3b.5. Letters of Commitment: Proposals must identify and include letters of commitment for all implementing organizations for all seven languages with proposed overseas language institutions identified and the proposed language levels to be taught at each. A letter of commitment from the proposed overseas language institution(s) should be included. The sole exception exists in the event that the award recipient determines that it unexpectedly cannot meet overseas program capacity outlined in this RFGP with the sub-award implementing organizations identified in its proposal. The award recipient may propose the addition of implementing organization(s), subject to ECA's approval.

III.3b.6. Letter of Acknowledgment: Proposals should include a letter of acknowledgment from the relevant overseas post Public Affairs Section (U.S. embassy/consulate, also known as “post,” in whose district the proposed program will take place.) When requesting a letter of acknowledgment from post, the award recipient must:

(1) Language Program Location: Identify the location (city) in which the language program is proposed to take place;

(2) Language Provider(s)/Institution(s): Identify the proposed language provider(s)/institution(s);

(3) Participant Numbers: Specify the proposed number of participants to be programmed in a particular location;

(4) Program Duration: Specify the proposed duration; and

(5) Accommodations: Describe the proposed accommodations.

III.3b.7. Proposal Submissions: Eligible applicants may not submit more than one proposal in this competition.

Please note: Applicant organizations are defined by their legal name, DUNS and EIN number as stated on their completed SF-424 and additional supporting documentation outlined in the Proposal Submission Instructions (PSI) document.

III.3b.8. Sub-Award Proposal Submissions: Eligible sub-award implementing organizations may not be included in more than one proposal in this competition. Please note: Applicant organizations are defined by their legal name, DUNS number and EIN number as stated on their completed SF-424 and additional supporting documentation outlined in the Proposal Submission Instructions (PSI) document.

IV. Application and Submission Information

Note: Please read the complete announcement before sending inquiries or submitting proposals. Once the RFGP deadline has passed, Bureau staff may not discuss this competition with applicants until the proposal review process has been completed.

IV.1. Contact Information To Request an Application Package

Please contact the NSLI-Y Program Specialist, Linda Beach, at ECA/PE/C/PY, U.S. Department of State, SA-5, 3-H11, 2200 C St., NW., Washington, DC 20037, telephone: 202-632-6414 or beachlf@state.gov to request a Solicitation Package. Please refer to the Funding Opportunity Number ECA/PE/C/PY-11-03 located at the top of this announcement when making your request.

Alternatively, an electronic application package may be obtained from grants.gov. Please see section IV.3f for further information.

The Solicitation Package contains the PSI document which consists of required application forms, and standard guidelines for proposal preparation. It also contains the Project Objectives, Goals and Implementation (POGI) document, which provides specific information, award criteria and budget instructions tailored to this competition.

Please specify Linda Beach, NSLI-Y Program Specialist, and refer to the Funding Opportunity Number ECA/PE/C/PY-11-03 located at the top of this announcement on all other inquiries and correspondence.

IV.2. To Download a Solicitation Package Via Internet

The entire Solicitation Package may be downloaded from the Bureau's Web site at http://exchanges.state.gov/grants/open2.html, or from the Grants.gov Web site at http://www.grants.gov. Please read all information before downloading.

IV.3. Content and Form of Submission: Applicants must follow all instructions in the Solicitation Package. The original and ten copies of the application should be submitted per the instructions under IV.3f. “Application Deadline and Methods of Submission” section below.

IV.3a. DUNS Number: You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. Proposal Contents: All proposals must contain an executive summary, proposal narrative and budget.

Please Refer to the Solicitation Package. It contains the mandatory PSI document and the POGI document for additional formatting and technical requirements.

IV.3c. CCR Registration, DUNS Number, Non-Profit Status and Other Documentation: All Federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted.

You must have nonprofit status with the IRS at the time of application. Please note: Effective January 7, 2009, all applicants for ECA Federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Proposal Narrative: Please take into consideration the following information when preparing your proposal narrative:

IV.3d.1. Adherence to All Regulations Governing the J Visa

The Bureau of Educational and Cultural Affairs places critically important emphases on the security and proper administration of the Exchange Visitor (J visa) Programs and adherence by award recipients and sponsors to all regulations governing the J visa. While outbound American program participants do not receive J visas and are, therefore, not governed by J visa regulations, ECA monitors the award recipient's compliance with established standards that parallel J visa regulations for inbound academic year participants. These regulations are found in 22 CFR 62.25. Therefore, proposals should demonstrate and explicitly state in writing the applicant's capacity and willingness to meet all relevant requirements that parallel the administration of the Exchange Visitor Programs as set forth in 22 CFR part 62, including the screening and selection of program participants; provision of pre-arrival information and orientation to participants; regular monthly monitoring of participants; identification of, reference checking for, orientation of and regular contact with host families; proper maintenance and security of forms, record-keeping, reporting; and other requirements.

A copy of the complete regulations governing the administration of Exchange Visitor (J) programs is available at http://exchanges.state.gov or from: Office of Designation, Private Sector Programs Division, U.S. Department of State, ECA/EC/D/PS, SA-5, 5th Floor, 2200 C Street, NW., Washington, DC 20037.

Please refer to Solicitation Package for further information.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Proposals that address and encourage the participation of traditionally underserved audiences in all institutional and individual award programs and other program activities will be favorably reviewed. These audiences include, but are not limited to, women, racial and ethnic minorities, people living in underserved geographic locations, religious minorities, people of lower socio-economic status and people with disabilities. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the fullest extent deemed feasible.

Special Note on Diversity: It is a goal of the Department to ensure that all funded programs reflect the diversity of American Society. Proposals must describe plans to promote this goal across all program components and describe the way in which the applicant will encourage diversity in participant selection. Proposals should ensure that special efforts are made to recruit participants from underserved populations and locales. Selection should reflect a preference for qualified candidates who have not already studied overseas and who might not otherwise be able to study abroad were it not for the scholarship opportunity.

IV.3d.3. Program Monitoring and Evaluation

Proposals must include a plan to monitor and evaluate the project's success, both as the activities unfold and at the end of the program. The Bureau recommends that the proposal include a draft survey questionnaire or other instrument plus a description of a methodology used to link outcomes to original project objectives. The Bureau expects that the recipient organization will monitor participants and be able to respond to key evaluation questions, including satisfaction with the program, language acquisition and cultural learning as a result of the program, changes in behavior as a result of the program, and effects of the program on institutions (institutions in which participants work or partner institutions). The evaluation plan should include indicators that measure gains in language acquisition and mutual understanding as well as substantive knowledge.

Successful monitoring and evaluation depend heavily on setting clear goals and outcomes at the outset of a program. The evaluation plan should include a description of the project's objectives, anticipated project outcomes, and how and when these outcomes (performance indicators) will be measured. The more that outcomes are “smart” (specific, measurable, attainable, results-oriented, and placed in a reasonable time frame), the easier it will be to conduct the evaluation. Please also show how the project objectives link to the goals and objectives of the program, as described in this RFGP.

The monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals and objectives set out in the RFGP (listed here in increasing order of importance):

(1) Participant satisfaction with the program and exchange experience.

(2) Participant learning, such as increased knowledge, aptitude, skills, and changed understanding and attitude. Learning includes language acquisition, substantive (subject-specific) learning and mutual understanding.

(3) Participant behavior, concrete actions to apply knowledge in work or community; greater participation and responsibility in civic organizations; interpretation and explanation of experiences and new knowledge gained; continued contacts between participants, community members, and others.

(4) Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of the monitoring and evaluation plan will be judged on how well it:

(1) Outcomes: Specifies intended outcomes;

(2) How Outcomes are Measured: Gives clear descriptions of how each outcome will be measured;

(3) When Outcomes are Measured: Identifies when particular outcomes will be measured; and

(4) Strategy: Provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular, quarterly program reports. All data collected, including survey responses and contact information, must be maintained for a minimum of three years and provided to the Bureau upon request.

The NSLI-Y program uses the Bureau's E-Goals system for evaluation and additional guidance on its use is located in the POGI.

Program monitoring includes participant monitoring, which focuses specifically on ensuring participants' health, safety and welfare throughout the duration of the overseas program. Proposals must include a plan to monitor the participants' safety and welfare that parallels the standards for J1 visa regulations for inbound academic year participants found in 22 CFR 62.25. They must also include a plan to monitor and report on the NSLI-Y participants' successes, including language acquisition, both as the activities unfold and at the end of the program. The Bureau recommends that the proposal include a draft survey questionnaire or other technique and a description of the methodology that will be used to monitor participants' health, safety and welfare. The Bureau expects that the award recipient will monitor NSLI-Y participants and be able to respond to key participant monitoring questions throughout the period of the cooperative agreement.

IV.3e. Proposal Budget: Please take the following information into consideration when preparing your budget:

IV.3e.1. Comprehensive Budget: Applicants must submit SF-424A— “Budget Information—Non-Construction Programs” along with a comprehensive budget for the entire program. The budget request may not exceed $9,000,000 and must clearly indicate the proposed number of participants for each of the seven languages and proposed countries/locations, in accordance with the guidelines in the POGI, for the first year of this potentially three year cooperative agreement. There must be a summary budget that reflects a breakdown of both administrative and program budgets. Applicants may provide separate sub-budgets for each program component, phase, location, or activity to provide clarification. Detailed budgets of proposed sub-award recipients should also be included.

Please refer to the Solicitation Package (POGI and/or PSI) for complete budget guidelines and formatting instructions.

IV.3f. Application Deadline and Methods of Submission

Application Deadline Date: March 24, 2011.

Reference Number: ECA/PE/C/PY-11-03.

Methods of Submission: Applications may be submitted in one of two ways:

(1) In hard-copy, via a nationally recognized overnight delivery service (i.e., Federal Express, UPS, Airborne Express, or U.S. Postal Service Express Overnight Mail, etc.), or

(2) electronically through http://www.grants.gov.

Along with the Project Title, all applicants must enter the above Reference Number in Box 11 on the SF-424 contained in the mandatory PSI of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and ten (10) copies of the application should be sent to: Program Management Division, ECA-IIP/EX/PM, Ref.: ECA/PE/C/PY-11-03, SA-5, Floor 4, Department of State, 2200 C Street, NW., Washington, DC 20037.

Applicants submitting hard-copy applications must also submit the “Executive Summary,” “Proposal Narrative,” “Budget,” and “Budget Narrative” sections of the proposal in Microsoft Word and Excel format on CD-ROM to the program officer Lisa Wishman at wishmanlb@state.gov. As appropriate, the Bureau will provide these files electronically to Public Affairs Section(s) at the U.S. embassy(ies)/consulate(s) for its(their) review.

IV.3f.2.—Submitting Electronic Applications

Applicants have the option of submitting proposals electronically through Grants.gov (http://www.grants.gov). Complete solicitation packages are available at Grants.gov in the “Find” portion of the system.

Please note: ECA bears no responsibility for applicant timeliness of submission or data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support. Contact Center Phone: 800-518-4726. Business Hours: Monday-Friday, 7 a.m.-9 p.m. Eastern Time. E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3f.3. Proposal Submission: Applicants may not submit more than one proposal in this competition. Sub-award implementing organizations may not be included in more than one proposal in this competition. Please note: Applicant organizations are defined by their legal name, and EIN number as stated on their completed SF-424 and additional supporting documentation outlined in the Proposal Submission Instructions (PSI) document.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, regional bureaus and Public Affairs/Diplomacy sections overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

(1) Quality of the program idea and planning: Proposals should exhibit originality, substance, precision, and relevance to the Bureau's mission and the purposes outlined in this solicitation. A detailed agenda and relevant work plan should demonstrate the ability to ensure that the proposed project accomplishes the stated goals and objectives in the desired time frame. Proposals should demonstrate how participants will be recruited, selected, monitored, tested (before and after their overseas program) and presented with continuing language learning opportunities. Proposals should address the ways in which the award recipient and its implementing organizations will prepare and orient overseas language instructors for the unique challenges of teaching their native language to American high school students. Proposals should identify proposed language learning institutions and locations, address both in-class formal and out-of-class applied language learning and ensure that all enhancement activities (cultural excursions, guest lectures, guided internships, extra-curricular activities and volunteer projects) reinforce participant's language skills through authentic language practice and use.

(2) Ability to achieve program goals and project objectives: Proposals should clearly demonstrate an understanding of the program goals and project objectives and how the institution will achieve them through objectives that are reasonable, feasible and flexible (as stated in the “Purpose” section of this document under the four NSLI-Y goals and the three project objectives.) A detailed agenda and relevant work plan should demonstrate organizational competency and logistical capacity. The agenda and plan should adhere to the program overview, timetable and guidelines described in this solicitation. The substance of the language instruction and the exchange activities should be described in detail and included as an attachment. The responsibilities, capacity and expertise of implementing organizations should be clearly delineated.

(3) Support of Diversity: Proposals should demonstrate substantive support of the Bureau's policy on diversity in all program aspects including but not limited to participants, host families, resident directors/group leaders, overseas peers, language instructors and overseas program venues. Achievable and relevant features should be cited in both program administration (selection of participants, program venue and program evaluation) and program content (orientations, program meetings, resource materials and alumni activities). Please note that special effort should be made to recruit qualified candidates from underserved populations and locales. Selection should reflect a preference for qualified candidates who have not already studied overseas and who might not otherwise be able to study abroad were it not for this scholarship opportunity. Proposals that articulate a diversity plan—not just a statement of compliance—will be more favorably reviewed.

(4) Institution's Record/Institutional Capacity: Proposed personnel and institutional resources should be adequate and appropriate to achieve the program or project's goals and objectives in a timely, professional and transparent fashion. Reviewers will assess the applicant and its implementing organizations to determine whether they offer adequate resources, expertise, experience and management of overseas relationships to fulfill program goals and objectives. The roles of the award recipient and implementing organizations should be clearly defined. Proposals should demonstrate an institutional record of successful language-focused exchange programs, including responsible fiscal management and full compliance with all reporting requirements for past Bureau awards (grants or cooperative agreements) as determined by Bureau Grants Staff. The Bureau will consider the past performance of prior recipients and the demonstrated potential of new applicants.

(5) Participant Monitoring: Proposals must include a detailed monitoring plan for NSLI-Y participants. Given the importance the Bureau places on this criterion, the narrative should include sufficient explanation about how it will achieve the Bureau's goals in regard to monitoring. Appendices may be used to house additional details and supporting documentation.

(6) Follow-on Activities: Proposals should provide a plan for continued contact with alumni to ensure that they are tracked over time, utilized and/or organized as alumni, and provided opportunities to reinforce the knowledge and skills acquired on the NSLI-Y program. Proposals should provide a strategy for maximizing the opportunities for alumni to further their study of the target language and culture of the host country, presenting plans that are within the context of the cooperative agreement (with the Bureau financial support) and after its completion (without the Bureau's financial support). Creative, age-appropriate plans for NSLI-Y alumni who do not have access to their target language through their high school to continue their language acquisition will be favorably reviewed as will those proposals that encourage NSLI-Y alumni to continue language acquisition, particularly—although not exclusively—through other U.S.G. supported programs.

(7) Project Evaluation: Proposals should include a plan to evaluate the program's successes and challenges, both as the activities unfold and at the end of the program. The evaluation plan should also address the methodology to assess individual participants' language acquisition and show clear linkages between program goals/objectives and expected outcomes.

(8) Cost-effectiveness/Cost-sharing: Reviewers will analyze the budget for clarity and cost-effectiveness. They will also assess the rationale of the proposed budget and whether the allocation of funds is appropriate to complete tasks outlined in the project narrative. The overhead and administrative components of the proposal, including salaries and honoraria, should be kept as low as possible. While lower “per participant” figures will be favorably viewed, the Bureau expects all figures to be realistic. Proposals should maximize cost-sharing through other private sector support as well as institutional direct funding contributions.

VI. Award Administration Information

VI.1. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information:

http://www.whitehouse.gov/omb/grants.

http://fa.statebuy.state.gov.

VI.3. Reporting Requirements: You must provide ECA with a hard copy original plus two copies of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements;

(3) A SF-PPR, “Performance Progress Report” Cover Sheet with all program reports. The Program Office requests that the award recipient submit Attachment B on program indicators, Attachment E on activities based on expenditures and Attachment F on program/project management;

(4) Quarterly program and financial reports which should include information on the program plan and program results to date, an analysis of evaluation findings and the quantitative and qualitative data you have available. The financial report must be submitted on the FFR form; and

(5) The award recipient must also be prepared to respond to additional Bureau requests for information and documents in a timely and effective manner.

Award recipients will be required to provide reports analyzing their evaluation findings to the Bureau in their regular program reports. (Please refer to Section IV, Application and Submission Instruction (IV.3.d.3) above, for Program Monitoring and Evaluation information.)

All data collected, including survey responses and contact information, must be maintained for a minimum of three years and provided to the Bureau upon request.

All reports must be sent to the ECA Grants Officer and ECA Program Officer listed in the final assistance award document.

VI.4. Program Data Requirements

Award recipients will be required to maintain specific data on program participants and activities in an electronically accessible database format that can be shared with the Bureau as required. As a minimum, the data must include the following:

(1) Name, address, contact information and biographic sketch of all persons who travel internationally on funds provided by the agreement or who benefit from the award funding but do not travel.

(2) Itineraries of international and domestic travel, providing dates of travel and cities in which any exchange experiences take place. Final schedules for in-country and U.S. activities must be received by the ECA Program Officer at least three work days prior to the official opening of the activity.

VII. Agency Contacts

For questions about this announcement, contact: Lisa Bess Wishman, NSLI-Y Program Officer, Bureau of Education and Cultural Affairs, Office of Citizen Exchanges, Youth Programs Division, ECA/PE/C/PY, ECA/PE/C/PY-11-03, U.S. Department of State, SA-5, 3-F16, 2200 C Street, NW., Washington, DC 20037, Telephone: 202-632-6082; Fax: 202-632-9355; e-mail: WishmanLB@state.gov.

All correspondence with the Bureau concerning this RFGP should reference the above title and number ECA/PE/C/PY-11-03.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. ECA reserves the right to reduce, revise, or increase proposal budgets in accordance with the needs of the program and the availability of funds. Awards made will be subject to periodic reporting and evaluation requirements per section VI.3 above.

Dated: January 21, 2011.
Ann Stock,
Assistant Secretary for Educational and Cultural Affairs, U.S. Department of State.

[FR Doc. 2011-1786 Filed 1-26-11; 8:45 am]

BILLING CODE 4710-05-P